DEPARTMENT OF DEFENSE

Department of the Navy

Notice of Public Hearings for the Undersea Warfare Training Range Draft Overseas Environmental Impact Statement/Environmental Impact Statement

AGENCY: Department of the Navy, DoD.

ACTION: Notice.

SUMMARY: Pursuant to section 102(2)(c) of the National Environmental Policy Act (NEPA) of 1969 and regulations implemented by the Council on Environmental Quality (40 CFR parts 1500-1508), and Executive Order (EO) 12114, Environmental Effects Abroad of Major Federal Actions, the Department of the Navy (Navy) has prepared and filed with the U.S. Environmental Protection Agency a Draft Overseas Environmental Impact Statement/Environmental Impact Statement (OEIS/EIS) on September 12, 2008. The National Marine Fisheries Service (NMFS) is a Cooperating Agency for the OEIS/EIS.

The Draft OEIS/EIS evaluates the potential environmental impacts of the construction and operation of an Undersea Warfare Training Range (USWTR) associated with Navy Atlantic Fleet training activities. The construction of the proposed USWTR would entail the instrumentation of a 500-square nautical mile (NM²) area of the sea floor with undersea cables and sensor nodes, connected to the shore via a single trunk cable.

The western edge of the range would be located approximately 50 NM off the coast of Jacksonville, FL. The USWTR would allow ships, submarines, and aircraft to perform anti-submarine warfare (ASW) training in littoral, or near shore, waters. A Notice of Intent (NOI) for the OEIS/EIS was published in the Federal Register on May 13, 1996 (Federal Register, Volume 61, No. 93, pp 22028). A Revised NOI for this Draft OEIS/EIS and Notice of Request for Public Scoping Comments were published in the Federal Register on September 21, 2007 (Federal Register, Volume 72, No. 183, pp 54015-54016).

The Navy will conduct four public hearings to receive oral and written comments on the Draft OEIS/EIS. Federal agencies, state agencies, local agencies, and interested individuals are invited to be present or represented at the public hearings. This notice announces the dates and locations of the public hearings for this Draft OEIS/EIS.

An open house session will precede the scheduled public hearing at each of the locations listed below and will allow individuals to review the information presented in the USWTR Draft OEIS/EIS. Navy representatives will be available during the open house sessions to clarify information related to the Draft OEIS/EIS.

Dates and Addresses: Public hearings will be held on the following dates and times at the following locations:

1. September 29, 2008, at the Chincoteague Center (open house poster session from 4 p.m. to 7 p.m. and formal hearing from 7 p.m. to 9 p.m.), 6155 Community Drive, Chincoteague, VA;

2. October 1, 2008 at the Crystal Coast Civic Center (open house poster session from 6 p.m. to 8 p.m. and formal hearing from 8 p.m. to 10 p.m.), 3505 Arendell Street, Morehead City, NC;

3. October 6, 2008 at the Sheraton North Charleston—Convention Center (open house poster session from 5 p.m. to 7 p.m. and formal hearing from 7 p.m. to 9 p.m.), 4770 Goer Drive, North Charleston, SC;

4. October 7, 2008 at the University of North Florida—University Center (open house poster session from 5 p.m. to 7 p.m. and formal hearing from 7 p.m. to 9 p.m.), 12000 Alumni Drive, Jacksonville, FL.

FOR FURTHER INFORMATION CONTACT: Naval Facilities Engineering Command, Atlantic, Attention: EV22LL (USWTR OEIS/EIS Program Manager (PM)), 6506 Hampton Boulevard, Norfolk, Virginia 23508-1278; facsimile: 804-200-5568 or http://projects.earthtech.com/uswtr/.

SUPPLEMENTARY INFORMATION: The purpose for the proposed action is to enable the U.S. Navy to train effectively in a shallow water environment (120 to 900 feet in depth) at a suitable location for Atlantic Fleet ASW capable units.

The need for the proposed action is to provide range capabilities for training and equipping combat-capable naval forces ready to deploy worldwide. In this regard, the USWTR furthers the Navy's execution of its Congressionally-mandated roles and responsibilities under Title 10 U.S.C 5062. Training on the USWTR would ensure this Congressional mandate is implemented by allowing the Navy to: effectively equip its forces for deployment to littoral areas worldwide, such as the Arabian Sea; use active sonar to assist in the detection of extremely quiet modern diesel submarines; and train with the actual sensors and weapons systems used in combat to mimic realistic wartime conditions.

The Draft OEIS/EIS evaluates the potential impacts of five alternatives for USWTR including the No Action Alternative. The alternatives were evaluated in the Draft OEIS/EIS to ensure they met the purpose and need, giving due consideration to the following: physiographic features (water depth, range area length/width ratio, shallow/deep water depth ratio, and range orientation to the shoreline), adequacy of support infrastructure (shore landing site for trunk cable and helicopter training and recovery support), climatological criteria (visibility, wind speeds, and wave height), proximity to homeports/air stations (helicopter, submarine, and surface ship homeports), range installation and use (commercial fishing, ocean currents, and bottom type), and non-critical support infrastructure (air space control, shore landing site, and proximity to docking facility for range support craft).

These alternatives include: The No Action Alternative, under which no USWTR would be installed off the east coast of the U.S., although ASW training, including active sonar activities, would continue across Navy operating areas (OPAREAs) and adjacent areas; Site A (Preferred Alternative) which would be located offshore of northeastern Florida in the Jacksonville OPAREA; Site B, located offshore of Charleston, South Carolina in the Charleston OPAREA; Site C, located offshore of southeastern North Carolina, within the Cherry Point OPAREA; and Site D, located offshore of the northeastern coast of Virginia in the VACAPES OPAREA. Two alternative sites, Gulf of Mexico and Gulf of Maine, were eliminated from further consideration because of distance and climatology.

The Draft OEIS/EIS analyzed potential impacts on multiple resources including, but not limited to: The marine environment; biological resources, including threatened and endangered species; and socioeconomic resources. No significant adverse impacts were identified for any resource area for any of the alternatives that cannot be mitigated, with the exception of exposure of marine mammals to underwater sound.

The Navy has applied to NMFS under the Marine Mammal Protection Act for a Letter of Authorization and governing regulations to authorize incidental takes of marine mammals that may result from operation of the proposed USWTR. The Navy is consulting with NMFS under section 7 of the Endangered Species Act on the potential for effects on sea turtles from installation and operation of the proposed range.

The USWTR Draft OEIS/EIS was distributed to Federal, State, and local agencies, elected officials, and other interested individuals and organizations on September 12, 2008. The public comment period will end on October 27, 2008. Copies of the USWTR Draft OEIS/EIS are available for public review at the following libraries: Chincoteague Island Library, 4077 Main Street, Chincoteague, VA; Eastern Shore Public Library, 23610 Front Street, Accomac, VA; Virginia Beach Central Library, 4100 Virginia Beach Boulevard, Virginia Beach, VA; Worcester County Library, Ocean City Branch, 200 14th Street, Ocean City, MD; Wicomico County Free Library, 122 South Division Street, Salisbury, MD; Carteret County Public Library, 210 Turner Street, Beaufort, NC; Onslow County Public Library, 58 Doris Avenue East, Jacksonville, NC; Charleston County Library, 68 Calhoun Street, Charleston, SC; and Jacksonville Public Library, Regency Square Branch, 9900 Regency Boulevard, Jacksonville, FL.

The USWTR Draft OEIS/EIS is also available for electronic public viewing at http://projects.earthtech.com/uswtr/. A paper copy of the Executive Summary or a single CD with the USWTR Draft OEIS/EIS will be made available upon written request by contacting Naval Facilities Engineering Command, Atlantic Division; Attention: Code EV22LL (USWTR OEIS/EIS PM); 6506 Hampton Blvd; Norfolk, VA 23508-1278. Facsimile: 804-200-5568. Federal, State, and local agencies and interested parties are invited to be present or represented at the public hearing. Written comments can also be submitted during the open house sessions preceding the public hearings.

Oral statements will be heard and transcribed by a stenographer; however, to ensure the accuracy of the record, all statements should be submitted in writing. All statements, both oral and written, will become part of the public record on the Draft OEIS/EIS and will be responded to in the Final OEIS/EIS. Equal weight will be given to both oral and written statements. In the interest of available time, and to ensure all who wish to give an oral statement have the opportunity to do so, each speaker's comments will be limited to three (3) minutes. If a long statement is to be presented, it should be summarized at the public hearing with the full text submitted either in writing at the hearing, or mailed or faxed to Naval Facilities Engineering Command, Atlantic Division; Attention: Code EV22LL (USWTR OEIS/EIS PM); 6506 Hampton Blvd; Norfolk, VA 23508-1278. Facsimile: 804-200-5568.

In addition, comments may be submitted on-line at http://projects.earthtech.com/uswtr/ during the comment period. All written comments must be postmarked by October 27, 2008 to ensure they become part of the official record. All comments will be addressed in the Final OEIS/EIS.

Dated: September 5, 2008.
T. M. Cruz,
Lieutenant Commander, Judge Advocate General's Corps, U.S. Navy, Federal Register Liaison Officer.

[FR Doc. E8-21344 Filed 9-11-08; 8:45 am]

BILLING CODE 3810-FF-P